DEPARTMENT OF HOMELAND SECURITY

8 CFR Part 103

[CIS No. 2459-08; DHS Docket No. USCIS-2008-0038]

RIN 1615-AB76

Commonwealth of the Northern Mariana Islands Transitional Worker Classification: Correction

AGENCY: U.S. Citizenship and Immigration Services, DHS.

ACTION: Final rule; correction.

SUMMARY: The Department of Homeland Security (DHS) is issuing a final rule to restore text that was inadvertently deleted in a September 7, 2011, final rule entitled Commonwealth of the Northern Mariana Islands Transitional Worker Classification. In that rule, we had sought to modify the title of a paragraph, but inadvertently removed the body of the paragraph. This correction restores the text of the paragraph.

DATES: This final rule is effective November 8, 2011.

FOR FURTHER INFORMATION CONTACT: Paola Rodriguez Hale, U.S. Citizenship and Immigration Services, Department of Homeland Security, 20 Massachusetts Avenue NW., Washington, DC 20529-2060 telephone (202) 272-1470.

SUPPLEMENTARY INFORMATION:

Need for Correcting Amendment

In the final rule Commonwealth of the Northern Mariana Islands Transitional Worker Classification, published in the Federal Register on September 7, 2011 at 76 FR 55502, DHS intended to revise only the heading of paragraph (b)(1)(i)(J) of § 103.7, which pertains to various U.S. Citizenship and Immigration Services fees. The heading of that paragraph was revised from “Petition for Nonimmigrant Worker in CNMI (Form I-129CW)” to “Petition for a CNMI-Only Nonimmigrant Transitional Worker (Form I-129CW).” We did not intend to alter the specific amount of the fee, contained in the text of the paragraph. However, in that final rule, paragraph (b)(1)(i)(J) of § 103.7 was inadvertently revised in its entirety, eliminating all text except for the heading. This document corrects the error by restoring the original text of the paragraph.

List of Subjects in 8 CFR Part 103

Administrative practice and procedure, Authority delegations (Government agencies), Freedom of information, Privacy, Reporting and recordkeeping requirements, Surety bonds.

Correcting Amendment

Accordingly, 8 CFR part 103.7 is amended by making the following correcting amendment:

1. The authority citation for part 103 continues to read as follows:

Authority: 5 U.S.C. 301, 552, 552a; 8 U.S.C. 1101, 1103, 1304, 1356; 31 U.S.C. 9701; 48 U.S.C. 1806; Pub. L. 107-296, 116 Stat. 2135 (6 U.S.C. 1 et seq.), E.O. 12356, 47 FR 14874, 15557, 3 CFR, 1982 Comp., p. 166; 8 CFR part 2.

2. Correct § 103.7 by revising paragraph (b)(1)(i)(J) to read as follows:

§ 103.7 Fees.

* * * * *

(b) * * *

(1) * * *

(i) * * *

(J) Petition for a CNMI-Only Nonimmigrant Transitional Worker (Form I-129CW). For an employer to petition on behalf of one or more beneficiaries: $325 plus a supplemental CNMI education funding fee of $150 per beneficiary per year. The CNMI education funding fee cannot be waived.

* * * * *

Dated: October 31, 2011.
Christina E. McDonald,
Associate General Counsel for Regulatory Affairs, Department of Homeland Security.

[FR Doc. 2011-28985 Filed 11-7-11; 8:45 am]

BILLING CODE 9111-97-P